DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Kristin E Fontenot,
Assistant Administrator, Risk Analysis, Planning & Information Directorate Federal Emergency Management Agency, Department of Homeland Security.

State and county | Location and case No. | Chief executive officer of community | Community map repository | Date of modification | Community No.
Arizona:
Gila (FEMA Docket No.: B-2467). | City of Globe (24-09-0443P). | The Honorable Al Gameros, Mayor, City of Globe, 150 North Pine Street, Globe, AZ 85501. | City Hall, 150 North Pine Street, Globe, AZ 85501. | Dec. 26, 2024 | 040029
Navajo (FEMA Docket No.: B-2467). | Town of Pinetop-Lakeside (23-09-1093P). | The Honorable Stephanie Irwin, Mayor, Town of Pinetop-Lakeside, 325 West White Mountain Boulevard, Lakeside, AZ 85929. | Town Hall, 325 West White Mountain Boulevard, Lakeside, AZ 85929. | Jan. 9, 2025 | 040127
California:
Los Angeles (FEMA Docket No.: B-2462). | City of Los Angeles (24-09-0592P). | The Honorable Karen Bass, Mayor, City of Los Angeles, 200 North Spring Street, Los Angeles, CA 90012. | Department of Public Works, 1149 South Broadway, Suite 810, Los Angeles, CA 90015. | Dec. 27, 2024 | 060137
Los Angeles (FEMA Docket No.: B-2462). | Unincorporated areas of Los Angeles County (24-09-0592P). | Lindsey Horvath, Chair, Los Angeles County Board of Supervisors, 500 West Temple Street, Room 821, Los Angeles, CA 90012. | Los Angeles County Watershed Management Department, 900 South Fremont Avenue, Alhambra, CA 91803. | Dec. 27, 2024 | 065043
Colorado:
Arapahoe (FEMA Docket No.: B-2462). | City of Aurora (23-08-0489P). | The Honorable Mike Coffman, Mayor, City of Aurora, 15151 East Alameda Parkway, Aurora, CO 80012. | Public Works Department, 15151 East Alameda Parkway, Suite 3200, Aurora, CO 80012. | Dec. 20, 2024 | 080002
Arapahoe (FEMA Docket No.: B-2462). | Unincorporated areas of Arapahoe County (23-08-0489P). | Carrie Warren-Gully, Chair, Arapahoe County Board of Commissioners, 5334 South Prince Street, Littleton, CO 80120. | Arapahoe County Public Works and Development Department, 6924 South Lima Street, Centennial, CO 80112. | Dec. 20, 2024 | 080011
Boulder (FEMA Docket No.: B-2467). | Town of Superior (23-08-0189P). | The Honorable Mark Lacis, Mayor, Town of Superior, 124 East Coal Creek Drive, Superior, CO 80027. | Town Hall, 124 East Coal Creek Drive, Superior, CO 80027. | Dec. 23, 2024 | 080203
Boulder (FEMA Docket No.: B-2467). | Unincorporated areas of Boulder County (23-08-0189P). | The Honorable Ashley Stolzmann, Chair, Boulder County Board of Commissioners, P.O. Box 471, Boulder, CO 80306. | Boulder County Transportation Department, 2525 13th Street, Suite 203, Boulder, CO 80304. | Dec. 23, 2024 | 080023
Jefferson (FEMA Docket No.: B-2462). | City of Lakewood (23-08-0727P). | The Honorable Wendi Strom, Mayor, City of Lakewood, 480 South Allison Parkway, Lakewood, CO 80226. | Public Works Department, 470 South Allison Parkway, Lakewood, CO 80226. | Dec. 20, 2024 | 085075
Jefferson (FEMA Docket No.: B-2462). | Unincorporated areas of Jefferson County (23-08-0417P). | Lesley Dahlkemper, Chair, Jefferson County Board of Commissioners, 100 Jefferson County Parkway, Suite 5550, Golden, CO 80419. | Jefferson County Planning and Zoning Division, 100 Jefferson County Parkway, Suite 3550, Golden, CO 80419. | Dec. 27, 2024 | 080087
Jefferson (FEMA Docket No.: B-2462). | Unincorporated areas of Jefferson County (23-08-0727P). | Lesley Dahlkemper, Chair, Jefferson County Board of Commissioners, 100 Jefferson County Parkway, Suite 5550, Golden, CO 80419. | Jefferson County Planning and Zoning Division, 100 Jefferson County Parkway, Suite 3550, Golden, CO 80419. | Dec. 20, 2024 | 080087
Connecticut:
New Haven (FEMA Docket No.: B-2467). | City of New Haven (24-01-0496P). | The Honorable Justin Elicker, Mayor, City of New Haven, 165 Church Street, New Haven, CT 06510. | Planning Department, 165 Church Street, 5th Floor, New Haven, CT 06510. | Jan. 10, 2025 | 090084
New Haven (FEMA Docket No.: B-2467). | Town of East Haven (24-01-0496P). | The Honorable Joseph A. Carfora, Mayor, Town of East Haven, 250 Main Street, East Haven, CT 06512. | Engineering Department, 461 North High Street, East Haven, CT 06512. | Jan. 10, 2025 | 090076
Florida:
Bay (FEMA Docket No.: B-2462). | Unincorporated areas of Bay County (24-04-3454P). | Robert Majka, Manager, Bay County, 840 West 11th Street, Panama City, FL 32401. | Bay County Planning and Zoning Department, 840 West 11th Street, Panama City, FL 32401. | Jan. 2, 2025 | 120004
Collier (FEMA Docket No.: B-2462). | Unincorporated areas of Collier County (24-04-1528P). | Chris Hall, Chair, Collier County Board of Commissioners, 3299 Tamiami Trail East, Suite 303, Naples FL 34112. | Collier County Growth Management Community Development Department, 2800 North Horseshoe Drive, Naples FL 34104. | Dec. 24, 2024 | 120067
Monroe (FEMA Docket No.: B-2462). | Unincorporated areas of Monroe County (24-04-4132P). | The Honorable Holly Merrill Raschein, Mayor, Monroe County Board of Commissioners, 102050 Overseas Highway, Suite 234, Key Largo, FL 33037. | Monroe County Building Department, 2798 Overseas Highway, Suite 300, Key Largo, FL 35050. | Dec. 20, 2024 | 125129
Monroe (FEMA Docket No.: B-2462). | Village of Islamorada (24-04-4463P). | The Honorable Joseph Buddy Pinder III, Mayor, Village of Islamorada, 86800 Overseas Highway, Islamorada, FL 33036. | Building Department, 86800 Overseas Highway, Islamorada, FL 33036. | Dec. 27, 2024 | 120424
Orange (FEMA Docket No.: B-2462). | City Orlando (24-04-3768P). | The Honorable Buddy Dyer, Mayor, City of Orlando, 400 South Orange Avenue, Orlando, FL 32801. | Public Works Department, Engineering Division, 400 South Orange Avenue, 8th Floor, Orlando, FL 32801. | Jan. 2, 2025 | 120186
Palm Beach (FEMA Docket No.: B-2467). | Village of Royal Palm Beach (23-04-5354P). | The Honorable Fred Pinto, Mayor, Village of Royal Palm Beach, 1050 Royal Palm Beach Boulevard, Royal Palm Beach, FL 33411. | Village Hall, 1050 Royal Palm Beach Boulevard, Royal Palm Beach, FL 33411. | Dec. 24, 2024 | 120225
Pasco (FEMA Docket No.: B-2467). | City of Zephyrhills (24-04-4816P). | The Honorable Melonie Bahr Monson, Mayor, City of Zephyrhills, 5335 8th Street, Zephyrhills, FL 33542. | City Hall, 5335 8th Street, Zephyrhills, FL 33542. | Dec. 23, 2024 | 120235
Georgia: Coweta (FEMA Docket No.: B-2467). | City of Newnan (24-04-0065P). | The Honorable Keith Brady, Mayor, City of Newnan, 25 LaGrange Street, Newnan, GA 30263. | City Hall, 25 LaGrange Street, Newnan, GA 30263. | Jan. 2, 2025 | 130062
Illinois: DuPage (FEMA Docket No.: B-2462). | Village of Addison (24-05-0830P). | The Honorable Richard Veenstra, Mayor, Village of Addison, 1 Friendship Plaza, Addison, IL 60101. | Village Hall, 1 Friendship Plaza, Addison, IL 60101. | Dec. 27, 2024 | 170198
Indiana:
Marion (FEMA Docket No.: B-2462). | City of Indianapolis (24-05-1185P). | The Honorable Joe Hogsett, Mayor, City of Indianapolis, 200 East Washington Street, Suite 2501, Indianapolis, IN 46204. | City Hall, 1200 Madison Ave., Suite 100, Indianapolis, IN 46225. | Dec. 27, 2024 | 180159
Marion (FEMA Docket No.: B-2462). | Town of Speedway (24-05-1185P). | Jason Delisle, President, Town of Speedway Council, 5300 Crawfordsville Road, Speedway, IN 46224. | Town Hall, 1450 North Lynhurst Drive, Speedway, IN 46224. | Dec. 27, 2024 | 180162
Kansas: Johnson (FEMA Docket No.: B-2462). | City of Overland Park (23-07-0829P). | The Honorable Curt Skoog, Mayor, City of Overland Park, 8500 Santa Fe Drive, Overland Park, KS 66212. | City Hall, 8500 Santa Fe Drive, Overland Park, KS 66212. | Dec. 18, 2024 | 200174
Nevada:
Washoe (FEMA Docket No.: B-2462). | City of Reno (24-09-0743P). | The Honorable Hillary Schieve, Mayor, City of Reno, 1 East 1st Street, Reno, NV 89505. | City Hall, 1 East 1st Street, Reno, NV 89505. | Dec. 27, 2024 | 320020
Washoe (FEMA Docket No.: B-2462). | Unincorporated areas of Washoe County (24-09-0743P). | Alexis Hill, Chair, Washoe County Board of Commissioners, 1001 East 9th Street, Reno, NV 89512. | Washoe County Administration Complex, 1001 East 9th Street, Reno, NV 89512. | Dec. 27, 2024 | 320019
North Carolina:
Gaston (FEMA Docket No.: B-2445) | City of Cherryville (23-04-4491P). | The Honorable H.L. Beam, Mayor, City of Cherryville, 116 South Mountain Street, Cherryville, NC 28021. | Planning and Zoning Department, 116 South Mountain Street, Cherryville, NC 28021. | Aug. 5, 2024 | 370455
Guilford (FEMA Docket No.: B-2460). | City of Greensboro (23-04-3460P). | The Honorable Nancy Vaughan, Mayor, City of Greensboro, P.O. Box 3136 Greensboro, NC 27402. | Stormwater Planning Division, 2602 South Elm, Eugene Street, Greensboro, NC 27402. | Dec. 9, 2024 | 375351
Guilford (FEMA Docket No.: B-2460). | Unincorporated areas of Guilford County (23-04-3460P). | Melvin Alston, Chair, Guilford County Board of Commissioners, 301 West Market Street Greensboro, NC 27401. | Guilford County Planning Department, 400 West Market Street, Greensboro, NC 27401. | Dec. 9, 2024 | 370111
Surry (FEMA Docket No.: B-2460). | Unincorporated areas of Surry County (23-04-1415P). | Mark Marion, Chair, Surry County Board of Commissioners, P.O. Box 1467, Dobson, NC 27017. | Surry County Central Permitting Center, 122 Hamby Road, Dobson, NC 27017. | Dec. 12, 2024 | 370364
Tennessee:
Rutherford (FEMA Docket No.: B-2467). | City of La Vergne (24-04-4547P). | The Honorable Jason Cole, Mayor, City of La Vergne, 5093 Murfreesboro Road, La Vergne, TN 37086. | Codes Department, 5175 Murfreesboro Road, La Vergne, TN 37086. | Jan. 10, 2025 | 470167
Rutherford (FEMA Docket No.: B-2467). | Town of Smyrna (24-04-4547P). | The Honorable Mary Esther Reed, Mayor, Town of Smyrna, 315 South Lowry Street, Smyrna, TN 37167. | City Hall, 315 South Lowry Street, Smyrna, TN 37167. | Jan. 10, 2025 | 470169
Rutherford (FEMA Docket No.: B-2467). | Unincorporated areas of Rutherford County (24-04-4547P). | The Honorable Joe S. Carr, Mayor, Rutherford County, 1 Public Square, Room 101, Murfreesboro, TN 37130. | Rutherford County Courthouse, 116 West Lytle Street, Murfreesboro, TN 37130. | Jan. 10, 2025 | 470165
Texas:
Dallas (FEMA Docket No.: B-2467). | City of Mesquite (24-06-0950P). | The Honorable Daniel Aleman, Jr., Mayor, City of Mesquite, P.O. Box 850137, Mesquite, TX 75185. | City Hall, 1515 North Galloway Avenue, Mesquite, TX 75149. | Jan. 6, 2025 | 485490
Denton (FEMA Docket No.: B-2462). | Town of Argyle (24-06-0767P). | The Honorable Rick Bradford, Mayor, Town of Argyle, P.O. Box 609, Argyle, TX 76226. | Town Hall, 308 Denton Street, Argyle, TX 76226. | Dec. 30, 2024 | 480775
Gillespie (FEMA Docket No.: B-2462). | City of Fredericksburg (24-06-1109P). | The Honorable Jeryl Hoover, Mayor, City of Fredericksburg, 126 West Main Street, Fredericksburg, TX 78624. | City Hall, 126 West Main Street, Fredericksburg, TX 78624. | Dec. 19, 2024 | 480252
Montgomery (FEMA Docket No.: B-2467). | City of Roman Forest (24-06-0838P). | The Honorable Chris Parr, Mayor, City of Roman Forest, 2430 Roman Forest Boulevard, Roman Forest, TX 77357. | City Hall, 2430 Roman Forest Boulevard, Roman Forest, TX 77357. | Jan. 9, 2025 | 481538
Montgomery (FEMA Docket No.: B-2467). | City of Woodbranch (24-06-0838P). | The Honorable Mike Tyson, Mayor, City of Woodbranch, 58A Woodbranch Drive, New Caney, TX 77357. | City Hall, 58A Woodbranch Drive, New Caney, TX 77357. | Jan. 9, 2025 | 480694
Montgomery (FEMA Docket No.: B-2467). | Unincorporated areas of Montgomery County (24-06-0838P). | The Honorable Mark J. Keough, Montgomery County Judge, 501 North Thompson Street, Suite 401, Conroe, TX 77301. | Montgomery County Courthouse, 501 North Thompson Street, Suite 100, Conroe, TX 77301. | Jan. 9, 2025 | 480483
Travis (FEMA Docket No.: B-2462). | City of Austin (23-06-1884P). | T. C. Broadnax, Manager, City of Austin, P.O. Box 1088, Austin, TX 78767. | City Hall, 301 West 2nd Street, Austin, TX 78701. | Dec. 23, 2024 | 480624

[FR Doc. 2025-02979 Filed 2-21-25; 8:45 am]

BILLING CODE 9110-12-P